NUCLEAR REGULATORY COMMISSION

Regulatory Guide; Issuance, Availability

The Nuclear Regulatory Commission has issued revisions of two guides in its Regulatory Guide Series. This series has been developed to describe and make available to the public such information as methods acceptable to the NRC staff for implementing specific parts of the Commission's regulations, techniques used by the staff in evaluating specific problems or postulated accidents, and data needed by the staff in its review of applications for permits and licenses.

Revision 3 of Regulatory Guide 1.52, “Design, Inspection, and Testing Criteria for Air Filtration and Adsorption Units of Post-Accident Engineered-Safety-Feature Atmosphere Cleanup Systems in Light-Water-Cooled Nuclear Power Plants,” describes methods acceptable to the NRC staff for complying with the NRC's regulations with regard to the design, inspection, and testing criteria for air filtration and iodine adsorption units of engineered-safety-feature atmosphere cleanup systems in light-water-cooled nuclear power plants. This guide applies only to post-accident atmosphere cleanup systems that are designed to mitigate the consequences of postulated accidents.

Revision 2 of Regulatory Guide 1.140, “Design, Inspection, and Testing Criteria for Air Filtration and Adsorption Units of Normal Atmosphere Cleanup Systems in Light-Water-Cooled Nuclear Power Plants,” describes methods acceptable to the NRC staff for complying with the NRC's regulations with regard to the criteria for air filtration and adsorption units installed in the normal ventilation exhaust systems of light-water-cooled nuclear power plants.

Comments and suggestions in connection with items for inclusion in guides currently being developed or improvements in all published guides are encouraged at any time. Written comments may be submitted to the Rules and Directives Branch, Division of Administrative Services, Office of Administration, U.S. Nuclear Regulatory Commission, Washington, DC 20555.

Regulatory guides are available for inspection or downloading at the NRC's web site at <WWW.NRC.GOV> under Regulatory Guides and in NRC's Electronic Reading Room (ADAMS System) at the same site; Revision 3 of Regulatory Guide 1.52 is under ADAMS Accession Number ML011710176; Revision 2 of Regulatory Guide 1.140 is under ADAMS Accession Number ML011710150. Single copies of regulatory guides may be obtained free of charge by writing the Reproduction and Distribution Services Section, U.S. Nuclear Regulatory Commission, Washington, DC 20555-0001, or by fax to (301)415-2289, or by email to <DISTRIBUTION@NRC.GOV>. Issued guides may also be purchased from the National Technical Information Service on a standing order basis. Details on this service may be obtained by writing NTIS, 5285 Port Royal Road, Springfield, VA 22161. Regulatory guides are not copyrighted, and Commission approval is not required to reproduce them.

(5 U.S.C. 552(a))

Dated at Rockville, Maryland, this 25th day of June 2001.
For the Nuclear Regulatory Commission.
Michael E. Mayfield,
Director, Division of Engineering Technology, Office of Nuclear Regulatory Research.

[FR Doc. 01-17349 Filed 7-10-01; 8:45 am]

BILLING CODE 7590-01-P